OCCUPATIONAL SAFETY AND HEALTH REVIEW COMMISSION

Notice of Public Meeting

AGENCY: Occupational Safety and Health Review Commission.

ACTION: Notice.

SUMMARY: The Occupational Safety and Health Review Commission (Review Commission) invites the public to a meeting on enhancing efficiency in case processing at the Commission level.

Date and Time: August 30, 2012, from 10:30 a.m. until 12:30 p.m.

ADDRESSES: Occupational Safety and Health Review Commission, 1120 20th Street NW., Ninth Floor, Washington, DC 20036-3457.

FOR FURTHER INFORMATION CONTACT: Melik Ahmir-Abdul, Public Affairs Officer, Occupational Safety and Health Review Commission, 1120 20th Street NW., Ninth Floor, Washington, DC 20036-3457; Telephone (202) 606-5370; email address: fedreg@oshrc.gov.

SUPPLEMENTARY INFORMATION: The Review Commission will be holding a public meeting on August 30, 2012, as part of its ongoing efforts to enhance efficiency and effectiveness in case processing at the Commission level. The Review Commission encourages its stakeholders and other experts in occupational safety and health and administrative law to attend the meeting and provide comment. The specific items on the meeting agenda will be available on the Review Commission's Web site at: http://www.oshrc.gov.

To attend the meeting, make an oral statement, or submit a written statement regarding any of the items on the agenda, contact Public Affairs Officer Melik Ahmir-Abdul at the mailing address, phone number, or email address provided above, by Thursday, August 23, 2012. Please indicate whether you want to make an oral statement and what organization you represent (if appropriate). Seating will be available on a first come, first served basis.

The recording of the meeting will be available for public review on the Review Commission's Web site at: http://www.oshrc.gov.

Dated: July 17, 2012.
John X. Cerveny,
Deputy Executive Secretary.

[FR Doc. 2012-17716 Filed 7-19-12; 8:45 am]

BILLING CODE 7600-01-P